NUCLEAR REGULATORY COMMISSION

Advisory Committee on Reactor Safeguards; Amendment to July 9-11, 2008 ACRS Meeting Federal Register Notice

The Federal Register Notice for the ACRS meeting scheduled to be held on July 9-11, 2008, is being amended to notify the following:

In accordance with Subsection 10(d) Public Law 92-463, it may be necessary to close portions of the meeting to discuss and protect information classified as proprietary to Dominion Nuclear Connecticut and its contractors, General Electric—Hitachi Nuclear Energy and its contractors, and Tennessee Valley Authority and its contractors pursuant to 5 U.S.C. 552b(c)(4). In addition, it will be necessary to close a portion of the meeting to protect information classified as national security information as well as safeguards information pursuant to 5 U.S.C. 552b(c)(1) and (3).

The notice of this meeting was previously published in the Federal Register on Friday, June 20, 2008 [73 FR 351172-35173]. All other items remain the same as previously published.

Further information regarding this meeting can be obtained by contacting

Dr. Antonio Dias, Cognizant ACRS staff (301-415-6805), between 7:30 a.m. and 4 p.m., (ET).

Dated: June 25, 2008.
Andrew L. Bates,
Advisory Committee Management Officer.

[FR Doc. E8-14871 Filed 6-30-08; 8:45 am]

BILLING CODE 7590-01-P